NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Dates: April 16, 2003, 8:30 a.m.-5 p.m. and April 17, 2003, 9 a.m.-2:30 p.m.

Place: Stafford I, RM 1235, National Science Foundation, 4201 Wilson Blvd., Arlington, VA.

Type of Meeting: Open.

Contact Person: Dr. Margaret Cavanaugh, Office of the Director, National Science Foundation, Suite 1205, 4201 Wilson Blvd., Arlington, Virginia 22230. Phone 703-292-8002.

Minutes: May be obtained from the contact person listed above.

Purpose of Meeting: To provide advice, recommendations, and oversight concerning support for environmental research and education.

Agenda:

April 16—

Update on “rollout” of ACERE “Synthesis” report

Update on recent NSF environmental activities

Discussion of potential ACERE mini-reports

Panel presentations and discussion of Synthesis: Economics and Environment

April 17—

Meeting with the Director

Continued discussion of topics from previous day

AC-ERE Task Group Meetings and Reports

Dated: March 18, 2003.
Susanne Bolton,
Committee Management Officer.

[FR Doc. 03-6906 Filed 3-21-03; 8:45 am]

BILLING CODE 7555-01-M